DEPARTMENT OF THE INTERIOR

Bureau of Land Management

[NV-050-5853-ES; N-79952, N-79953, N-79957, N-80959, N-80961, N-80963, N-80964, and N-80966; 7-08807]

Notice of Realty Action: Lease/Conveyance for Recreation and Public Purposes, Clark County, NV

AGENCY: Bureau of Land Management, Interior.

ACTION: Notice of realty action.

SUMMARY: The Bureau of Land Management (BLM) has examined and found suitable for classification for lease and subsequent conveyance under the provisions of the Recreation and Public Purposes (R&PP) Act, as amended, approximately 207.15 acres of public land in Las Vegas, Clark County, Nevada. The Clark County School District proposes to use the lands for nine public schools. This land disposal action has been coordinated with Clark County, in whose jurisdiction such lands are located for joint selection purposes pursuant to Sec. 4(d)(1) of the Southern Nevada Public Lands Management Act, Pub. L. 105-263, (112 Stat. 2345).

DATES: Interested parties may submit comments regarding the proposed lease/conveyance of the lands until October 4, 2007.

ADDRESSES: Please submit comments to: Field Manager, BLM Las Vegas Field Office, 4701 N. Torrey Pines Drive, Las Vegas, NV 89130-2301.

FOR FURTHER INFORMATION CONTACT: Kim Liebhauser, (702) 515-5088.

SUPPLEMENTARY INFORMATION: In response to eight applications submitted by the Clark County School District, the BLM has examined and found suitable for classification for lease or subsequent conveyance for recreational or public purposes under the provisions of the R&PP Act, as amended (43 U.S.C. 869 et seq.). These eight parcels of land are in the Las Vegas Valley and are classified accordingly and described below:

Mount Diablo Meridian, Nevada

(1) Middle school (N-79952):

T. 19 S., R. 60 E.

Sec. 18, N½SW¼NE¼.

The area described contains 20 acres.

General location: northwestern part of valley southwest of the intersection of Gilcrease Avenue and Tee Pee Lane.

(2) Elementary school (N-79953):

T. 22 S., R. 60 E.

Sec. 14, E½SW¼NE¼SW¼, W½SE¼NE¼SW¼, and SE¼SE¼NE¼SW¼.

The area described contains 12.5 acres.

General location: southwestern part of valley northwest of the intersection of Torrey Pines Drive and Ford Avenue.

(3) Middle school (N-79957):

T. 23 S., R. 61 E.

Sec. 4, lots 6 and 7, and SW¼NW¼NE¼.

The area described contains 19.65 acres.

General location: southern part of the valley southeast of the intersection of Starr Avenue and Gilespie Street.

(4) Middle school (N-80959):

T. 22 S., R. 60 E.

Sec. 24, W½NE¼SE¼.

The area described contains 20 acres.

General location: southwestern part of the valley southeast of the intersection of Serene Avenue and Edmond Street.

(5) Elementary school (N-80961):

T. 22 S., R. 60 E.

Sec. 24, E½SW¼NW¼SW¼, NW¼SE¼NW¼SW¼, and E½SE¼NW¼SW¼.

The area described contains 12.5 acres.

General location: southwestern part of the valley generally northeast of the intersection of Jones Boulevard and Richmar Avenue.

(6) Elementary school (N-80963):

T. 22 S., R. 60 E.

Sec. 36, E½NE¼SE¼SE¼ and E½SE¼SE¼SE¼.

T. 22 S., R. 61 E.

Sec. 31, W½NW¼NW¼SW¼SW¼, W½SW¼NW¼SW¼SW¼, W½NW¼SW¼SW¼SW¼, and W½SW¼SW¼SW¼SW¼.

The area described contains 15 acres.

Middle school

T. 22 S., R. 61 E.

Sec. 31, E½SW¼SW¼, E½NW¼SW¼SW¼, E½SW¼SW¼SW¼, E½NW¼NW¼SW¼SW¼, E½SW¼NW¼SW¼SW¼, E½NW¼SW¼SW¼SW¼, and E½SW¼SW¼SW¼SW¼.

The area described contains 35 acres.

General location: southwestern part of the valley northeast of the intersection of Starr Avenue and Decatur Boulevard.

(7) High school (N-80964):

T. 20 S., R. 60 E.

Sec. 6, N½SW¼SE¼ and NE¼SE¼SW¼SE¼.

The area described contains 22.5 acres.

General location: northwestern part of the valley southeast of the intersection of Grand Canyon Drive and Hickam Avenue.

(8) High school (N-80966):

T. 22 S., R. 60 E.

Sec. 28, SW¼NE¼ and NW¼SE¼SE¼.

The area described contains 50 acres.

General location: southwestern part of the valley northeast of the intersection of Cactus Avenue and Cimarron Road.

The areas described above aggregate approximately 207.15 acres in Clark County, Nevada.

The lands are not required for any Federal purpose. The lease or conveyance is in conformance with the BLM Las Vegas Resource Management Plan (RMP) dated October 5, 1998. The RMP has been reviewed and it has been determined the proposed action is in conformance with the land use plan decision LD-1. The lease or conveyance, when issued, will be subject to the provisions of the R&PP Act and applicable regulations of the Secretary of the Interior and will contain the following reservations to the United States:

1. A right-of-way thereon for ditches and canals constructed by the authority of the United States, Act of August 30, 1890 (43 U.S.C. 945); and

2. All minerals together with the right to prospect for, mine and remove such deposits from the same under applicable law and such regulations as the Secretary of the Interior may prescribe.

The lease/conveyance will be subject to:

(1) Valid and existing rights.

(2) N-79952—(a) A right-of-way for water distribution system purposes granted to the Las Vegas Valley Water District, its successors or assigns, by right-of-way N-77494, pursuant to the Act of October 21, 1976, 90 Stat. 2776, 43 U.S.C. 1761;

(b) A right-of-way for road, drainage, and sewer pipeline purposes granted to the City of Las Vegas, its successors or assigns, by right-of-way N-76605, pursuant to the Act of October 21, 1976, 90 Stat. 2776, 43 U.S.C. 1761;

(c) A right-of-way for road, drainage, and sewer pipeline purposes granted to the City of Las Vegas, its successors or assigns, by right-of-way N-76812, pursuant to the Act of October 21, 1976, 90 Stat. 2776, 43 U.S.C. 1761;

(d) A right-of-way for underground telephone facility purposes granted to the Central Telephone Company, its successors or assigns, by right-of-way N-76336, pursuant to the Act of October 21, 1976, 90 Stat. 2776, 43 U.S.C. 1761;

(e) A right-of-way for underground power distribution line purposes granted to the Nevada Power Company, its successors or assigns, by right-of-way N-76130, pursuant to the Act of October 21, 1976, 90 Stat. 2776, 43 U.S.C. 1761;

(f) A right-of-way for underground telephone facility purposes granted to the Central Telephone Company, its successors or assigns, by right-of-way N-75583, pursuant to the Act of October 21, 1976, 90 Stat. 2776, 43 U.S.C. 1761; and

(g) A right-of-way for a water distribution system purposes granted to the Las Vegas Valley Water District, its successors or assigns, by right-of-way N-62751, pursuant to the Act of October 21, 1976, 90 Stat. 2776, 43 U.S.C. 1761.

(3) N-79953—there are no existing encumbrances.

(4) N-79957—(a) A right-of-way for road and drainage purposes granted to Clark County, its successors or assigns, by right-of-way N-76983, pursuant to the Act of October 21, 1976, 90 Stat. 2776, 43 U.S.C. 1761;

(b) A right-of-way for underground water pipeline purposes granted to the Las Vegas Valley Water District, its successors or assigns, by right-of-way N-76313, pursuant to the Act of October 21, 1976, 90 Stat. 2776, 43 U.S.C. 1761;

(c) A right-of-way for road and drainage purposes granted to Clark County, its successors or assigns, by right-of-way N-76131, pursuant to the Act of October 21, 1976, 90 Stat. 2776, 43 U.S.C. 1761;

(d) A right-of-way for sewer pipeline purposes granted to the Clark County Water Reclamation District, its successors or assigns, by right-of-way N-75027, pursuant to the Act of October 21, 1976, 90 Stat. 2776, 43 U.S.C. 1761;

(e) A right-of-way for road and drainage purposes granted to Clark County, its successors or assigns, by right-of-way N-63015, pursuant to the Act of October 21, 1976, 90 Stat. 2776, 43 U.S.C. 1761;

(f) A right-of-way for underground power distribution line purposes granted to the Nevada Power Company, its successors or assigns, by right-of-way N-54967, pursuant to the Act of October 21, 1976, 90 Stat. 2776, 43 U.S.C. 1761; and

(g) A right-of-way for underground telephone facility purposes granted to the Central Telephone Company, its successors or assigns, and Nevada Power Company, its successors or assigns, by right-of-way N-30971, pursuant to the Act of October 21, 1976, 90 Stat. 2776, 43 U.S.C. 1761.

(5) N-80959—(a) A right-of-way for road and drainage purposes granted to Clark County, its successors or assigns, by right-of-way N-75197, pursuant to the Act of October 21, 1976, 90 Stat. 2776, 43 U.S.C. 1761;

(b) A right-of-way for road and drainage purposes granted to Clark County, its successors or assigns, by right-of-way N-59342, pursuant to the Act of October 21, 1976, 90 Stat. 2776, 43 U.S.C. 1761; and

(c) A right-of-way for underground telephone facility purposes granted to the Central Telephone Company, its successors or assigns, and Nevada Power Company, its successors or assigns, by right-of-way N-27608, pursuant to the Act of October 21, 1976, 90 Stat. 2776, 43 U.S.C. 1761.

(6) N-80961—(a) A right-of-way for road and drainage purposes granted to Clark County, its successors or assigns, by right-of-way N-80627, pursuant to the Act of October 21, 1976, 90 Stat. 2776, 43 U.S.C. 1761; and

(b) A right-of-way for above and underground power facility purposes granted to the Nevada Power Company, its successors or assigns, by right-of-way N-81386, pursuant to the Act of October 21, 1976, 90 Stat. 2776, 43 U.S.C. 1761.

(7) N-80963—(a) A right-of-way for road and drainage purposes granted to Clark County, its successors or assigns, by right-of-way N-65870, pursuant to the Act of October 21, 1976, 90 Stat. 2776, 43 U.S.C. 1761.

(8) N-80964—(a) A right-of-way for underground water pipeline purposes granted to the Las Vegas Valley Water District, its successors or assigns, by right-of-way N-60844, pursuant to the Act of October 21, 1976, 90 Stat. 2776, 43 U.S.C. 1761;

(b) A right-of-way for road and drainage purposes granted to Clark County, its successors or assigns, by right-of-way N-46505, pursuant to the Act of October 21, 1976, 90 Stat. 2776, 43 U.S.C. 1761;

(c) A right-of-way for underground distribution line purposes granted to the Nevada Power Company, its successors or assigns, by right-of-way N-60562, pursuant to the Act of October 21, 1976, 90 Stat. 2776, 43 U.S.C. 1761;

(d) A right-of-way for road and drainage purposes granted to Clark County, its successors or assigns, by right-of-way N-60735, pursuant to the Act of October 21, 1976, 90 Stat. 2776, 43 U.S.C. 1761; and

(e) A right-of-way for underground telephone facility purposes granted to the Central Telephone Company, its successors or assigns, by right-of-way N-66793, pursuant to the Act of October 21, 1976, 90 Stat. 2776, 43 U.S.C. 1761.

(9) N-80966—(a) A right-of-way for natural gas pipeline purposes granted to the Southwest Gas Corporation, its successors or assigns, by right-of-way N-77953, pursuant to the Act of February 25, 1920, 41 Stat. 0437, 30 U.S.C. 185 sec. 28;

(b) A right-of-way for sewer system purposes granted to the Clark County Water Reclamation District, its successors or assigns, by right-of-way N-77199, pursuant to the Act of October 21, 1976, 90 Stat. 2776, 43 U.S.C. 1761;

(c) A right-of-way for underground water pipeline purposes granted to the Las Vegas Valley Water District, its successors or assigns, by right-of-way N-77507, pursuant to the Act of October 21, 1976, 90 Stat. 2776, 43 U.S.C. 1761; and

(d) A right-of-way for drainage purposes granted to Clark County, its successors or assigns, by right-of-way N-77084, pursuant to the Act of October 21, 1976, 90 Stat. 2776, 43 U.S.C. 1761.

Additional detailed information concerning this action is available for review at the BLM Las Vegas Field Office.

On August 20, 2007, the above described land will be segregated from all other forms of appropriation under the public land laws, including the general mining laws, except for lease or conveyance under the R&PP Act, leasing under the mineral leasing laws, and disposal under the mineral material disposal laws.

Classification Comments: Interested parties may submit comments involving the suitability of the land for R&PP sites. Comments on the classification are restricted to whether the land is physically suited for the proposal, whether the use will maximize the future use or uses of the land, whether the use is consistent with local planning and zoning, or if the use is consistent with State and Federal programs.

Application Comments: Comments, including names and addresses of respondents, will be available for public review. Interested parties may submit comments regarding the specific use proposed in the applications and plans of development, whether the BLM followed proper administrative procedures in reaching the decision to lease or convey under the R&PP Act, or any other factor not directly related to the suitability of the lands for public school sites. Facsimiles, telephone calls, and electronic mails are unacceptable means of notification. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM Nevada State Director who may sustain, vacate, or modify this realty action. In the absence of any adverse comments, the classification will become effective on October 19, 2007. The lands will not be available for lease or conveyance until after the classification becomes effective.

(Authority: 43 CFR 2741.5)

Mark R. Chatterton,
Assistant Field Manager, Non-Renewable Resources, Las Vegas, NV.

[FR Doc. E7-16344 Filed 8-17-07; 8:45 am]

BILLING CODE 4310-HC-P